SECURITIES AND EXCHANGE COMMISSION

[Release No. 34-90346]

Public Availability of the Securities and Exchange Commission's FY 2016 and FY 2017 Service Contract Inventory

AGENCY: Securities and Exchange Commission.

ACTION: Notice.

SUMMARY: In accordance with Section 743 of Division C of the Consolidated Appropriations Act of 2010 (Pub. L. 111-117), SEC is publishing this notice to advise the public of the availability of the FY2017 Service Contract Inventory (SCI) and the FY2016 SCI Analysis along with the FY2018 Service Contract Inventory (SCI) and the FY2017 SCI Analysis.

The SCI provides information on FY2016 and FY2017 actions over $150,000 for service contracts. The inventory organizes the information by function to show how SEC distributes contracted resources throughout the agency. SEC developed the inventory per the guidance issued on January 17, 2017 by the Office of Management and Budget's Office of Federal Procurement Policy (OFPP). OFPP's guidance is available at https://www.whitehouse.gov/sites/whitehouse.gov/files/omb/memoranda/2017/service_contract_inventories.pdf.

The Service Contract Inventory Analysis for FY2016 provides information based on the FY 2016 Inventory and the Service Contract Inventory Analysis for FY2017 provides information based on the FY 2017 Inventory. Please note that the SEC's FY 2016 and FY 2017 Service Contract Inventory data is now included in government-wide inventory available on www.acquisition.gov. The government-wide inventory can be filtered to display the inventory data for the SEC. The SEC has posted its FY 2017 and FY2018 plans for analyzing data, a link to the FY 2017 and 2018 government-wide Service Contract Inventory, the FY 2016 SCI Analysis, and the FY 2017 SCI Analysis on the SEC's homepage at http://www.sec.gov/about/secreports.shtml and http://www.sec.gov/open.

FOR FURTHER INFORMATION CONTACT: Direct questions regarding the service contract inventory to Vance Cathell, Director Office of Acquisitions 202.551.8385 or CathellV@sec.gov.

Dated: November 4, 2020.
Vanessa Countryman,
Secretary.

[FR Doc. 2020-24880 Filed 11-9-20; 8:45 am]

BILLING CODE 8011-01-P